DEPARTMENT OF AGRICULTURE

Office of the Secretary

Forest Resource Coordinating Committee

AGENCY: Forest Service, USDA.

ACTION: Call for nominations.

SUMMARY: The Department of Agriculture is seeking nominations for the Forest Resource Coordinating Committee (Committee) pursuant to Section 8005 of the Food, Conservation, and Energy Act of 2008 (Act) (Pub. L. 110-246), and the Federal Advisory Committee Act (FACA), (5 U.S.C. App. 2). Additional information on the Committee can be found by visiting the Committee's Web site at: http://www.fs.fed.us/spf/coop/frcc/.

DATES: Written nominations must be received by February 12, 2014. Nominations must contain a completed application packet that includes the nominee's name, resume, and completed Form AD-755 (Advisory Committee or Research and Promotion Background Information). The package must be sent to the address below.

ADDRESSES: Maya Solomon, USDA Forest Service, Office of Cooperative Forestry, Yates Federal Building, 201 14th Street SW., mail stop 1123, Washington, DC 20024 by express mail delivery or overnight courier service. Nominations sent via the U.S. Postal Service must be sent to the following address: USDA Forest Service; Office of Cooperative Forestry, State & Private Forestry; mail stop 1123; 1400 Independence Avenue SW., Washington, DC 20250-1123.

FOR FURTHER INFORMATION CONTACT: Maya Solomon, Forest Resource Coordinating Committee Program Coordinator, Telephone: (202) 205-1376 or Karl Dalla Rosa, Designated Federal Officer, Telephone: (202) 205-6206. Individuals who use telecommunication devices for the deaf (TDD) may call the Federal Information Relay Service (FIRS) at 1-800-877-8339 between 8 a.m. and 5 p.m., Eastern Standard Time, Monday through Friday.

SUPPLEMENTARY INFORMATION:

Background

In accordance with the provisions of FACA, the Secretary of Agriculture is seeking nominations to fill vacant positions in the State Forester and the Forest Industry categories. The purpose of the Committee is to continue providing direction and coordination of actions within the Department of Agriculture, and coordination with State agencies and the private sector, to effectively address the national priorities for private forest conservation, with specific focus on owners of non-industrial private forest land as described in Section 8005 of the Food, Conservation, and Energy Act of 2008 (Pub. L. 110-246). These priorities include:

1. Conserving and managing working forest landscapes for multiple values and uses.

2. Protecting forests from threats, including catastrophic wildfires, hurricanes, tornadoes, windstorms, snow or ice storms, flooding, drought, invasive species, insect or disease outbreak, or development, and restoring appropriate forest types in response to such threats, and

3. Enhancing public benefits from private forests, including air and water quality, soil conservation, biological diversity, carbon storage, forest products, forestry-related jobs, production of renewable energy, wildlife, wildlife corridors and wildlife habitat, and recreation.

Vacancy

A representative for the State Foresters category representing the Southern States will be appointed by the Secretary to a 3-year term. Representatives for the Forest Industry category representing anywhere in the United States will be appointed by the Secretary to a 3-year term. Vacancies will be filled in the manner in which the original appointment was made.

Nomination and Application Instructions

The nominees, for the State Forester position, must be associated with organizations, located in one of the Southern States and Territories (Alabama, Arkansas, Florida, Georgia, Kentucky, Louisiana, Mississippi, North Carolina, Oklahoma, South Carolina, Tennessee, Texas, Virginia, Puerto Rico, and the U.S. Virgin Islands), and be willing to represent that sector as it relates to non-industrial private forestry. Nominees, for the Forest Industry position, may be located anywhere in the United States and must be associated with industrial forestry companies. The public is invited to submit nominations for membership on the Forest Resource Coordinating Committee, either as a self-nomination or a nomination of any qualified and interested person. The appointment of members to the Committee is made by the Secretary of Agriculture. Any individual or organization may nominate one or more qualified persons to represent the above vacancy on the Forest Resource Coordinating Committee. To be considered for membership, nominees must—

1. Resume describing qualifications on how they are qualified to represent the unoccupied vacancy;

2. State why they want to serve on the committee and what they can contribute;

3. Show their past experience in working successfully as part of a coordinating group; and

4. Complete Form AD-755, Advisory Committee or Research and Promotion Background Information. The form AD-755 may be obtained from the Forest Service contacts or from the following Web site: http://www.usda.gov/documents/OCIO_AD_755_Master_2012.pdf.

5. Letters of recommendation are welcome.

All nominations will be vetted by USDA. Individuals may also nominate themselves. A list of qualified applicants from which the Secretary of Agriculture shall appoint to the Forest Resource Coordinating Committee will be prepared. Applicants are strongly encouraged to submit nominations via overnight mail or delivery to ensure timely receipt by the USDA. Members of the Committee will serve without compensation, but may be reimbursed for travel expenses while performing duties on behalf of the Committee, subject to approval by the DFO.

Equal opportunity practices, in line with USDA policies, will be followed in all appointments to the Committee. To ensure that the recommendations of the Committee have been taken into account the needs of the diverse groups served by the Departments, membership should include, to the extent practicable, individuals with demonstrated ability to represent all racial and ethnic groups, women and men, and persons with disabilities.

Dated: December 30, 2013.
Malcolm A. Shorter,
Deputy Assistant Secretary for Administration.

[FR Doc. 2014-00336 Filed 1-10-14; 8:45 am]

BILLING CODE 3410-11-P